DEPARTMENT OF ENERGY

Federal Energy Regulatory Commission

[Docket No. CP05-373-000]

Transcontinental Gas Pipe Line Corporation; Notice of Application for Abandonment

June 15, 2005.

Take notice that on June 8, 2005, Transcontinental Gas Pipe Line Corporation (Transco) tendered for filing an application under section 7 of the Natural Gas Act to abandon the firm transportation service provided to the customers listed on Exhibit Z1 of the application (Cities) under Transco's Rate Schedule FT pursuant to Service Agreements dated February 1, 1992. Transco states that the service agreements, included in Exhibit U of the application, set forth the terms and conditions under which Transco provides firm transportation up to maximum quantities for each customer. Transco further states that although the firm transportation service is being tendered by Transco pursuant to Transco's blanket certificate authorizations under Part 284(G) of the Commission's regulations, Transco requires specific section 7(b) abandonment authorization (instead of simply abandoning the service automatically under Section 284.221(d) of the regulations) because the subject FT service for the Cities was previously converted from firm sales service to firm transportation service under Transco's Rate Schedule FT pursuant to Transco's revised Stipulation and Agreement in Docket Nos. RP88-68, et al. Transco notes that the settlement provides that pre-granted abandonment shall not apply to such conversions.

Transco states that it proposes to abandon the aforementioned firm transportation service to the Cities in order that the Cities may implement a permanent release of that capacity in accordance with the terms of Transco's tariff to the prearranged replacement buyer, the Municipal Gas Authority of Georgia.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the date as indicated below. Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC There is an “eSubscription” link on the Web site that enables subscribers to receive email notification when a document is added to a subscribed docket(s). For assistance with any FERC Online service, please email FERCOnlineSupport@ferc.gov, or call (866) 208-3676 (toll free). For TTY, call (202) 502-8659.

Comment: 5 pm Eastern Time July 6, 2005.

Magalie R. Salas,
Secretary.

[FR Doc. E5-3248 Filed 6-21-05; 8:45 am]

BILLING CODE 6717-01-P